SMALL BUSINESS ADMINISTRATION

[License No. 07/07-0118]

Notice Seeking Exemption under Section 312 of the Small Business Investment Act, Conflicts of Interest, C3 Capital Partners III, L.P.

Notice is hereby given that C3 Capital Partners III, L.P., 1511 Baltimore Ave., Suite 500, Kansas, MO 64108, a Federal Licensee under the Small Business Investment Act of 1958, as amended (the “Act”), in connection with the financing of a small concern, has sought an exemption under Section 312 of the Act and 13 CFR 107.730, Financings which Constitute Conflicts of Interest, of the Small Business Administration (“SBA”) Rules and Regulations. C3 Capital Partners III, L.P., provided a loan to Green Compass f/k/a Santa Clara Waste Water Company and California Living Waters, Inc. (“Green Compass”), 2775 North Ventura Road, Suite 209, Oxnard, CA 93036. The financing was contemplated to provide capital that contributes to the growth and overall sound financing of Green Compass.

The financing is brought within the purview of § 107.730(a)(1) because C3 Capital Partners II, L.P., an Associate of C3 Capital Partners III, L.P., as defined in § 107.50, owns a ten percent or greater equity interest in Green Compass. Accordingly, Green Compass is considered an Associate of C3 Capital Partners III, L.P.

Notice is hereby given that any interested person may submit written comments on the transaction to the Associate Administrator, Office of Investment and Innovation, U.S. Small Business Administration, 409 Third Street SW., Washington, DC 20416.

Dated: February 25, 2015.
Javier E. Saade,
Associate Administrator, Office of Investment and Innovation.

[FR Doc. 2015-05320 Filed 3-5-15; 8:45 am]

BILLING CODE P